DEPARTMENT OF COMMERCE

International Trade Administration

Renewable Energy and Energy Efficiency Trade Policy Mission to Peru

AGENCY: International Trade Administration, Department of Commerce

ACTION: Amendment.

SUMMARY: The United States Department of Commerce, International Trade Administration, U.S. and Foreign Commercial Service is amending the Notice published at 79 FR 28683, May 19, 2014, for the Renewable Energy and Energy Efficiency Trade Policy Mission to Peru originally scheduled for November 12-13, 2014, in Lima, Peru, to revise the mission description to notify potential applicants that the mission will be led by an Executive official, rather than a senior official, of the Department of Commerce. In addition, the mission will now occur November 4-5, 2014.

FOR FURTHER INFORMATION CONTACT: Ryan Mulholland, Senior Renewable Energy Trade Specialist, Office of Energy and Environmental Industries, Phone: (202) 482-4693, Email: Ryan.Mulholland@trade.gov.

Catherine P. Vial,
Team Leader for Environmental Industries, Office of Energy and Environmental Industries.

[FR Doc. 2014-18798 Filed 8-7-14; 8:45 am]

BILLING CODE 3510-DR-P